ENVIRONMENTAL PROTECTION AGENCY

[FRL-9952-24-OA]

Notification of a Teleconference of the Science Advisory Board Economy-Wide Modeling Panel

AGENCY: Environmental Protection Agency (EPA).

ACTION: Notice.

SUMMARY: The Environmental Protection Agency (EPA or Agency) Science Advisory Board (SAB) Staff Office announces a public teleconference of the SAB Economy-Wide Modeling Panel.

DATES: The public teleconference will be held on December 7, 2016 from 1:00 p.m. to 5:00 p.m. (Eastern Time).

ADDRESSES: The teleconference will be held by telephone only.

FOR FURTHER INFORMATION CONTACT: Any member of the public wishing further information regarding the public teleconference or public meeting may contact Dr. Holly Stallworth, Designated Federal Officer (DFO), SAB Staff Office, by telephone/voicemail at (202) 564-2073 or via email at stallworth.holly@epa.gov. General information concerning the EPA Science Advisory Board can be found at the EPA SAB Web site at http://epa.gov/sab.

SUPPLEMENTARY INFORMATION: Background: The SAB was established pursuant to the Environmental Research, Development, and Demonstration Authorization Act (ERDDAA) codified at 42 U.S.C. 4365, to provide independent scientific and technical peer review, advice, consultation, and recommendations to the EPA Administrator on the technical basis for EPA actions. As a Federal Advisory Committee, the SAB conducts business in accordance with the Federal Advisory Committee Act (FACA) (5 U.S.C. App. 2) and related regulations. Pursuant to FACA and EPA policy, notice is hereby given that the SAB Economy-Wide Modeling Panel will hold a public teleconference to discuss its draft responses on charge questions from EPA's National Center for Environmental Economics and the Office of Air and Radiation on economic analysis for air regulations at EPA.

The SAB will comply with the provisions of FACA and all appropriate SAB Staff Office procedural policies. Background information on the SAB Economy-Wide Modeling Panel can be found at http://yosemite.epa.gov/sab/sabproduct.nsf/fedrgstr_activites/Economywide%20modeling?OpenDocument.

Availability of the meeting materials: Agendas will be posted on the SAB Web site prior to the December 7, 2016 teleconference. To locate meeting materials, go to http://epa.gov/sab and click on the meeting date. The Economy-Wide Modeling Panel's draft report will be posted at this URL. EPA's review document(s), charge to the Panel and other background materials are also available at the URL above. For questions concerning EPA's review materials on economy-wide modeling, please contact Dr. Ann Wolverton, EPA National Center for Environmental Economics at wolverton.ann@epa.gov or 202-566-2278.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments on the topic of this advisory activity, including the charge to the panel and the EPA review documents, and/or the group conducting the activity, for the SAB to consider during the advisory process. Input from the public to the SAB will have the most impact if it consists of comments that provide specific scientific or technical information or analysis for the SAB panel to consider or if it relates to the clarity or accuracy of the technical information.

Oral Statements: In general, individuals or groups requesting an oral presentation will be limited to three minutes per speaker for the teleconference. Interested parties should contact Dr. Holly Stallworth, DFO, in writing (preferably via email), at the contact information noted above, by November 30, 2016 to be placed on the list of public speakers for the teleconference. Written Statements: Written statements should be received in the SAB Staff Office by November 30, 2016 to be considered for the teleconference. Written statements should be supplied to the DFO, preferably in electronic format via email. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Stallworth at the phone number or email address noted above, preferably at least ten days prior to the meeting, to give EPA as much time as possible to process your request.

Dated: September 6, 2016.
Khanna Johnston,
Acting Deputy Director, EPA Science Advisory Board Staff Office.

[FR Doc. 2016-22093 Filed 9-13-16; 8:45 am]

BILLING CODE 6560-50-P